Proclamation 9702 of February 28, 2018

Women's History Month, 2018

By the President of the United States of America

A Proclamation

Our history is rich with amazing stories of strong, courageous, and brilliant women. Since America's founding, women have played an integral part in American innovation and productivity, while simultaneously raising generations of lively children and providing leadership in their local communities.

Time and time again, women have demonstrated resilience in the face of unprecedented challenges. America's women have readily tackled the disruptive forces and demands of wartime and embraced the technological and industrial advancements of the past 250 years. We have seen the incredible fortitude of women like Mary Katherine Goddard, who, in 1775, served as postmaster of the Baltimore post office and printed the second copy of the then-treasonous Declaration of Independence. We have followed the exceptional leadership of women like Olive Ann Beech, the first female head of a major aircraft company, which produced thousands of aircraft for the Allied effort during World War II. And, we have been transformed by women like Marva Collins, who was working as a full-time substitute teacher in Chicago when she founded a low-cost private school for low-income children being left behind by public schools.

We can find similar stories throughout women's endeavors today. Women are leaders in a range of fields, from business and medicine to government and the arts. And, my Administration is committed to creating conditions that empower women to achieve even more. Access to paid family leave and affordable, high-quality childcare can help enhance women's ability to participate in the labor force and improve the economic security of their families. The recently enacted Tax Cuts and Jobs Act provides new tax credits to businesses that offer paid family and medical leave to their employees. This landmark legislation also gives qualifying American families with children a significantly larger child tax credit and ensures that more families will be eligible to take advantage of this credit. When we support family-friendly policies, women have more freedom to explore opportunities and to thrive at work and at home.

My Administration is also supporting policies that promote women's economic empowerment. This is critical, as women now make up 40 percent of the entrepreneurs in the United States. Women business owners employ more than 8 million workers and provide them with more than $264 billion in wages and salaries. Just in the first year of my Administration, the Small Business Administration has increased lending to women-owned businesses by $128 million. We will also continue promoting the next generation of women leaders through mentoring, training, and education initiatives.

Through these and other efforts, we will support women throughout our society, recognizing that the successes of women strengthen our families, our economy, and our Nation. As we reflect on the role of women throughout American history, we remember that women must always have access to all the opportunities that our Nation has to offer. Indeed, ensuring access to these opportunities is vital to our Nation's prosperity.

NOW, THEREFORE, I, DONALD J. TRUMP, President of the United States of America, by virtue of the authority vested in me by the Constitution and the laws of the United States, do hereby proclaim March 2018 as Women's History Month. I call upon all Americans to observe this month and to celebrate International Women's Day on March 8, 2018, with appropriate programs, ceremonies, and activities.

IN WITNESS WHEREOF, I have hereunto set my hand this twenty-eighth day of February, in the year of our Lord two thousand eighteen, and of the Independence of the United States of America the two hundred and forty-second.

[FR Doc. 2018-04622

Filed 3-2-18; 11:15 am]

Billing code 3295-F8-P